FEDERAL COMMUNICATIONS COMMISSION

Radio Broadcasting Services; AM or FM Proposals To Change the Community of License

AGENCY: Federal Communications Commission.

ACTION: Notice.

SUMMARY: The following applicants filed AM or FM proposals to change the community of license: HISPANIC TARGET MEDIA INC., Station NEW, Facility ID 189477, BNPH-20110630AGR, From CAMBRIA, CA, To SAN MIQUEL, CA; KONA COAST RADIO, LLC, Station KIMI, Facility ID 189501, BMPH-20140113ADO, From SIDNEY, IA, To MALVERN, IA; LANGER BROADCASTING GROUP, LLC, Station WBUR, Facility ID 161056, BMP-20140226AFN, From CORAL SPRINGS, FL, To DELRAY BEACH, FL; LOTUS RADIO CORP., Station KCKQ, Facility ID 160544, BMP-20140205AFW, From RENO, NV, To SPARKS, NV; NICOLET BROADCASTING, INC., Station WSBW, Facility ID 165986, BPH-20140205AAF, From SISTER BAY, WI, To EPHRAIM, WI; SOUTH CENTRAL OKLAHOMA CHRISTIAN BROADCASTING INC, Station KAZC, Facility ID 177138, BPED-20140203ABX, From HEALDTON, OK, To DICKSON, OK; STARSTATION RADIO, LLC., Station WLRR, Facility ID 53476, BPH-20140129AGY, From MILLEDGEVILLE, GA, To BUCKHEAD, GA; WHITE MOUNTAINS BROADCASTING, LLC, Station NEW, Facility ID 190383, BNPH-20120529AJJ, From CANAAN, VT, To MILAN, NH.

DATES: The agency must receive comments on or before May 27, 2014.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2014-06583 Filed 3-25-14; 8:45 am]

BILLING CODE 6712-01-P